DEPARTMENT OF AGRICULTURE

Food and Nutrition Service

Agency Information Collection Activities: Proposed Collection; Comment Request—Federal Claims Collection Methods for Supplemental Nutrition Assistance Program Recipient Claims

AGENCY: Food and Nutrition Service, USDA.

ACTION: Notice.

SUMMARY: In accordance with the Paperwork Reduction Act of 1995, this Notice invites the general public and other public agencies to comment on proposed information collections. This revision of an existing collection announces the intent of the Food and Nutrition Service to revise and continue the requirements associated with initiating and conducting Federal collection actions against households with delinquent Supplemental Nutrition Assistance Program (SNAP) recipient debts.

DATES: Written comments must be submitted on or before June 3, 2019 to be assured consideration.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate, automated, electronic, mechanical, or other technological collection techniques or other forms of information technology.

Comments may be sent to Jane Duffield, Chief, State Administration Branch, Supplemental Nutrition Assistance Program, Food and Nutrition Service, USDA, 3101 Park Center Drive, Room 818, Alexandria, Virginia, 22302. Comments may also be submitted via fax to the attention of Jane Duffield at 703-605-0795. Comments will also be accepted through the Federal eRulemaking Portal. Go to http://www.regulations.gov and follow the online instructions for submitting comments electronically.

All written comments will be open for public inspection at the office of the Food and Nutrition Service during regular business hours (8:30 a.m. to 5:00 p.m., Monday through Friday) at 3101 Park Center Drive, Alexandria, Virginia 22302, Room 818.

All comments will be summarized and included in the request for Office of Management and Budget approval of the information collection. All comments will become a matter of public record.

FOR FURTHER INFORMATION CONTACT: Requests for additional information or copies of this information collection should be directed to Richard Duckworth at (703) 605-4271.

SUPPLEMENTARY INFORMATION: Title: Federal Claims Collection Methods for Supplemental Nutrition Assistance Program Recipient Claims.

OMB Number: 0584-0446.

Form Number: None.

Expiration Date: September 30, 2019.

Type of Request: Revision of a currently approved collection.

Abstract: Section 13(b) of the Food and Nutrition Act of 2008, as amended (7 U.S.C. 2022(b)), and Supplemental Nutrition Assistance Program (SNAP) regulations at 7 CFR 273.18 require State agencies to refer delinquent debtors for SNAP benefit over-issuance to the U.S. Department of the Treasury for collection. The Debt Collection Improvement Act of 1996 (Pub. L. 104-134), as amended by the Digital Accountability and Transparency Act of 2014 (Pub. L. 113-101), requires these debts to be referred to Treasury for collection when they are 120 days or more delinquent. Through the Treasury Offset Program (TOP), 31 CFR part 285, payments such as Federal income tax refunds, Federal salaries and other Federal payments payable to these delinquent debtors will be offset and the amount applied to the delinquent debt. TOP places a burden on States agencies and/or former SNAP recipients who owe delinquent debts in three areas: (1) 60-day notices from State agencies to debtors that their debt will be referred to TOP; (2) State-level submissions; and (3) automated data processing (ADP). Below, the burden narrative and chart depicts the burden estimates by these three areas and affected public.

TOP 60-Day Notice Burden

The burden associated with the information collection involves both the households (debtors) and the State agencies. The TOP 60-day notice notifies the household of the proposed referral to TOP and provides the right for review and appeal. The State agency prepares and mails the notices as well as responds to inquiries and appeals. The household, in turn, receives and reads the notice and may make an inquiry or appeal the impending action. Based on an average of the number of records for claims the States sent to TOP for calendar years 2015, 2016, 2017 and 2018, we estimate that State agencies will produce and send and that households will read 305,020 TOP 60-day notices. We estimate that the households will submit and State agencies will respond to about 21,351 phone and informal inquiries. Households will file and the States will respond to an estimated 1,829 appeals. An additional 3,000 notices will be sent directly from FNS to Federal employees concerning the potential offset of their Federal salary. Historically, 30 percent of these notices will result in a phone inquiry from a household; and approximately 20 notices will result in a formal appeal to FNS requiring documentation from the State. Thus, the total number of responses for the 60-day notice and household inquiry is 660,340 responses (332,120 household responses + 328,220 State Agency responses) per year resulting in an annual reporting burden of 43,563 hours. The existing burden for activity relating to the 60-day notice is 33,960.80 hours. The net increase of 9,602 hours is due to an increase in the average number of 60-day notices sent to debtors by State agencies between 2014 and 2018.

TOP State-Level Submissions

Treasury prescribes specific processes and file formats for FNS to use to send debts to TOP. FNS provides guidance and file formats to State agencies and monitors their compliance with such. State agencies must submit an annual letter to FNS certifying that all of the debts submitted in the past and all debts to be submitted in the upcoming calendar year by the State agency to TOP are valid and legally enforceable in the amount stated. FNS estimates that it will take State agencies a total of 26.5 hours per year for these State submissions. This burden has not changed with this activity. State agencies also report TOP collections on the FNS-209 form, “Status of Claims Against Households.” The burden for completing the FNS-209 is covered under OMB number 0584-0594.

TOP ADP Burden

The burden for ADP includes weekly file processing, monthly address requests and system maintenance. Weekly and monthly file processing includes requesting addresses to use to send out 60-day notices, adding and maintaining debts in TOP, correcting errors on unprocessable records, and posting weekly collection files. Much of this activity is completed using automation and involves an estimated 1.4 million records annually. FNS estimates that this activity takes 12,374.82 annual reporting and 689 recordkeeping burden hours. This burden has not changed with this activity.

Summary of Estimated Burden

The net aggregate change from the existing to the revised annual burden for this entire Information Collection is an increase of 9,602 hours from the previous submission. For the activity relating to the 60-day notice, we are increasing the estimated annual burden for State agencies and households from 33,960.80 hours to 43,563 hours to reflect an increase in the number of notices and the resulting inquiries and appeals. The State-level submissions portion of the reporting and recordkeeping burden is estimated to require the same number of hours as the currently approved collection, 26.5 hours. The annual ADP portion of this burden package is also estimated to require the same number of hours as the currently approved collection, 12,374.82 reporting and 689 recordkeeping hours. This results in a final total of 56,653 annual burden hours.

Reporting Burden

Affected Public: Households/Debtors.

Estimated Number of Respondents: 305,020.

Estimated Number of Responses per Respondent: 1.09.

Estimated Total Number of Annual Responses: 332,120.

Estimated Hours per Response: 0.096974.

Estimated Total Annual Burden: 32,206.92 hours.

Affected Public: State and local government.

Estimated Number of Respondents: 53.

Estimated Number of Responses per Respondent: 6,315.92.

Estimated Total Number of Annual Responses: 334,744.

Estimated Hours per Response: .07.

Estimated Total Annual Burden: 23,757.40 hours.

State Agency Recordkeeping Burden

Affected Public: State and local government.

Estimated Number of Respondents: 53.

Estimated Number of Responses per Respondent: 52.

Estimated Total Number of Annual Responses: 2,756.

Estimated Hours per Response: .25.

Estimated Total Annual Burden: 689.

Reporting and Recordkeeping Burden Estimates
Section of Reg. | Description | Number of respondents | Number of responses per respondent | Total annual responses | Hours per response | Total annual burden hours
Households (Debtors) A. Due-Process Notice Requirements.
| Reading State Issued Notice | 305,020 | 1.00 | 305,020 | 0.08 | 25,469.17
| Informal Inquiries to State | 21,351 | 1.00 | 21,351 | 0.25 | 5,337.75
| Formal Appeals to State | 1,829 | 1.00 | 1,829 | 0.50 | 914.50
| Reading FNS issued letter to Federal employees | 3,000 | 1.00 | 3,000 | 0.0835 | 250.50
| Phone Inquiries and informal appeals for FNS letter | 900 | 1.00 | 900 | 0.25 | 225.00
| Formal appeals to FNS | 20 | 1.00 | 20 | 0.5 | 10.00
Totals |  | 305,020 | 1.09 | 332,120 | 0.0969737 | 32,206.92
State Agencies A. Due-Process Notice Requirements:
| State Notice Production | 53 | 5,755.09 | 305,020 | 0.02 | 5,093.83
| Responding to State Phone/informal Inquires | 53 | 402.85 | 21,351 | 0.25 | 5,337.75
| Responding to State Formal Appeals | 53 | 34.51 | 1,829 | 0.50 | 914.50
| Providing documents for formal appeals to FNS | 53 | 0.38 | 20 | 0.5 | 10.00
B. State Agency Reporting:
| Certification Letter | 1 | 53 | 0.50 | 26.50 | 1.00
C. TOP Automated Data Processing:
| System Compatibility File | 53 | 1.00 | 53 | 11.50 | 609.50
| Address File | 53 | 8.00 | 424 | 1.63 | 693.07
| Collections File | 53 | 8.00 | 424 | 6.50 | 2,756.00
| State Agency Profile | 53 | 1.00 | 53 | 0.25 | 13.25
| Testing New System | 5 | 1.00 | 5 | 7.00 | 35.00
| Weekly Files | 53 | 52.00 | 2,756 | 1.50 | 4,134.00
| Weekly Files—Post TOP Data | 53 | 52.00 | 2,756 | 1.50 | 4,134.00
Totals |  | 53 | 6,315.92 | 334,744 | 0.07 | 23,757.40
Overall Reporting Totals |  | 305,073 | 2.19 | 666,864 | 0.08 | 55,964

State Agency Recordkeeping: Per 7 CFR 272.1(f), State agencies are required to retain all records associated with the administration of SNAP for no less than 3 years. The burden for the retention of weekly TOP files is displayed below.

Recordkeeping
Number of recordkeepers | Annual records per recordkeeper | Total records per recordkeeper | Hours per record | Total recordkeeping burden
53 | 52 | 2,756 | 0.25 | 689.00

Dated: March 22, 2019.
Brandon Lipps,
Administrator, Food and Nutrition Service.

[FR Doc. 2019-06318 Filed 4-1-19; 8:45 am]

BILLING CODE 3410-30-P